DEPARTMENT OF TRANSPORTATION

Federal Aviation Administration

14 CFR Part 71

[Docket No. FAA-2001-10877; Airspace Docket No. 01-ANM-13]

RIN 2120-AA66

Revision of Legal Descriptions of Multiple Federal Airways in the Vicinity of Salt Lake City, UT

AGENCY: Federal Aviation Administration (FAA), DOT.

ACTION: Final rule.

SUMMARY: This action amends the legal descriptions of four Federal airways and eight jet routes that use the Salt Lake City, UT, very high frequency omnidirectional range/tactical air navigation (VORTAC) in their route structure. Currently, the Salt Lake City VORTAC and the Salt Lake City International Airport, UT, share the same location identifier. The fact that the VORTAC and the airport are not collocated has led to confusion among users. To eliminate this confusion, the Salt Lake City VORTAC will be renamed the “Wasatch VORTAC.” All airways with “Salt Lake City VORTAC” included in their legal descriptions will be amended, concurrent with the effective date of this final rule, to reflect the name change.

EFFECTIVE DATE: 0901 UTC, April 18, 2002.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

The Rule

This action amends Title 14 CFR part 71 (part 71) by amending the legal descriptions of four Federal airways and eight jet routes that have “Salt Lake City VORTAC” included as part of their route structure. Currently, the Salt Lake City, UT, VORTAC and the Salt Lake City International Airport, UT, share the same location identifier. The fact that the VORTAC and the airport are not collocated has led to confusion among users. To eliminate this confusion, the Salt Lake City VORTAC will be renamed the “Wasatch VORTAC.” All airways with “Salt Lake City VORTAC” included in their legal descriptions will be amended to reflect the name change. The name change of the VORTAC will coincide with the effective date of this rulemaking action.

Since this action merely involves editorial changes in the legal description of three Federal airways, and does not involve a change in the dimensions or operating requirements of that airspace, notice and public procedure under 5 U.S.C. 553(b) are unnecessary.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

Jet Routes and domestic VOR Federal airways are published in paragraphs 2004 and 6010(a), respectively, of FAA Order 7400.9J, dated August 31, 2001, and effective September 16, 2001, which is incorporated by reference in 14 CFR 71.1. The jet routes and airways listed in this document will be published subsequently in the order.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854,24 FR 9565, 3 CFR, 1959-1963 Comp., p. 389.

§ 71.1 [Amended]

2. The incorporation by reference in 14 CFR 71.1 of the Federal Aviation Administration Order 7400.9J, Airspace Designations and Reporting Points, dated August 31, 2001, and effective September 16, 2001, is amended as follows:

Paragraph 2004 Jet Routes

* * * * *

J-9 [Revised]

From Los Angeles, CA, via Daggett, CA; Las Vegas, NV; INT Las Vegas 046° and Milford, UT, 213° radials; Milford; Fairfield, UT; Wasatch, UT; Dubois, ID; Dillon, MT, to Great Falls, MT.

* * * * *

J-11 [Revised]

From Tucson, AZ, via INT Tucson 320° and Phoenix, AZ, 155° radials; Phoenix; Drake, AZ; Bryce Canyon, UT; Fairfield, UT; to Wasatch, UT.

* * * * *

J-12 [Revised]

From Seattle, WA, via Ephrata, WA; Donnelly, ID; Twin Falls, ID; Wasatch, UT; Fairfield, UT; to Grand Junction, CO.

* * * * *

J-15 [Revised]

From Humble, TX, via INT Humble 269° and Junction, TX, 112° radials; Junction; Wink, TX; Chisum, NM; Corona, NM; Albuquerque, NM; Farmington, NM; Grand Junction, CO; Wasatch, UT; Twin Falls, ID; Boise, ID; Kimberly, OR; INT Kimberly 288° and Battle Ground, WA, 136° radials; to Battle Ground.

* * * * *

J-56 [Revised]

From Mina, NV; Wasatch, UT; Hayden, CO; INT Hayden 090° and Falcon, CO, 317° radials; to Falcon.

* * * * *

J-116 [Revised]

From Wasatch, UT via Fairfield, UT; Meeker, CO; to Falcon, CO.

* * * * *

J-154 [Revised]

From Battle Mountain, NV; Bonneville, UT; Wasatch, UT; Rock Springs, WY; INT Rock Springs 106° and Mile High, CO, 322° radials; Mile High; INT Mile High 133° and Garden City, KS, 296° radials; to Garden City.

* * * * *

J-173 [Revised]

From Wasatch, UT, to Meeker, CO.

* * * * *

Paragraph 6010(a) Domestic VOR Federal Airways

* * * * *

V-21 [Revised]

From Santa Catalina, CA, via Seal Beach, CA; Paradise, CA; 35 miles, 7 miles wide (3 miles SE and 4 miles NW of centerline), Hector, CA; Boulder City, NV; Morman Mesa, NV; Milford, UT; Delta, UT; Fairfield, UT; Wasatch, UT; Ogden, UT; Malad City, ID; Pocatello, ID; Idaho Falls, ID; INT of Idaho Falls, 030° and DuBois, ID, 157° radials; DuBois; Dillon, MT; Whitehall, MT; Helena, MT; Great Falls, MT; Cut Bank, MT; INT Cut Bank 348° radial and the United States/Canadian border.

* * * * *

V-32 [Revised]

From Mustang, NV; via Hazen, NV; Lovelock, NV; INT Lovelock 057° and Battle Mountain, NV, 264° radials; Battle Mountain; Bullion, NV; Bonneville, UT; Wasatch, UT; 17 miles, 45 miles, 105 MSL, Fort Bridger, WY.

* * * * *

V-101 [Revised]

From Gill, CO, via Hayden, CO; Vernal, UT; 25 miles, 25 miles 120 MSL, 22 miles 145 MSL, 20 miles 125 MSL, Wasatch, UT; Ogden, UT; 61 miles, 26 miles, 109 MSL, Burley, ID; INT Burley 344° and Pocatello, ID, 286° radials; Hailey, ID, NDB; to the INT Pocatello 286° and Twin Falls, ID, 355° radials.

* * * * *

V-484 [Revised]

From Hailey, ID, NDB; INT Twin Falls, ID, 007° and Burley, ID, 323° radials; Twin Falls, 49 miles, 34 miles 114 MSL, Wasatch, UT; 25 miles, 31 miles, 125 MSL, Myton, UT; 14 miles, 79 MSL, 33 miles, 100 MSL, Grand Junction, CO; Blue Mesa, CO; INT Blue Mesa 110° and Alamosa, CO, 339° radials; Alamosa.

Issued in Washington, DC, November 29, 2001.
Reginald C. Matthews,
Manager, Airspace and Rules Division.

[FR Doc. 01-30359 Filed 12-6-01; 8:45 am]

BILLING CODE 4910-13-P